DEPARTMENT OF HOUSING AND URBAN DEVELOPMENT

[Docket No. FR-4563-N-09]

Notice of Proposed Information Collection for HOPE VI Survey

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: September 5, 2000.

ADDRESSES: Interested persons are invited to submit comments regarding this proposal. Comments should refer to the proposal by name and/or OMB Control number and should be sent to: Mildred M. Hamman, Reports Liaison Office, Public and Indian Housing, Department of Housing and Urban Development, 451 7th Street, W.W., Room 4238, Washington, DC 20410-5000.

FOR FURTHER INFORMATION CONTACT: Mildred M. Hamman, (202) 708-3642, extension 4128 for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the followinng information:

Title of Proposal: HOPE VI Survey.

OMB Number: 257-7.

Description of the need for the information and proposed use: One hundred original HOPE VI residents at eight sites will be surveyed by telephone using computer-assisted telephone interviewing (CATI). The residents will provide information on housing choices available to and made by original residents, satisfaction with current housing neighborhood locations, current living conditions, attitudes toward services received through the HOPE VI Program, and current employment status. The information will help HUD increase knowledge of the ways in which housing choices and social and economic outcomes for original residents are affected by revitalization efforts at selected HOPE VI sites. Data gathered will be used by the Urban Institute and a contractor to prepare a project report for HUD. HUD and local housing agencies could benefit greatly from learning more about what happens to original families. An incentive payment of $20.00 will be made to respondents participating in this survey in order to ensure a high response rate.

Agency form numbers: None.

Members of affected public: Individuals or households.

Estimation of the total number of hours needed to prepare the information collection including number of respondents, frequency of response, and hours of response: 100 residents at eight HOPE VI sites, one-time, 20 minutes (16,000 total minutes), 266 total reporting burden.

Status of the proposed information collection: New.

Authority: Section 3506 of the Paperwork Reduction Act of 1995, 44 U.S.C. Chapter 35, as amended.

Dated: June 30, 2000.
Harold Lucas,
Assistant Secretary for Public and Indian Housing.

BILLING CODE 4210-33-M

[FR Doc. 00-17083 Filed 7-5-00; 8:45 am]

BILLING CODE 4210-33-C